DEPARTMENT OF THE INTERIOR

National Park Service

Continuation of Visitor Services

AGENCY: National Park Service, Interior.

ACTION: Public notice.

SUMMARY: Pursuant to 36 CFR 51.23, public notice is hereby given that the National Park Service proposes to extend the following expiring concession contracts for a period of up to one year, or until such time as a new contract is executed, whichever occurs sooner.

SUPPLEMENTARY INFORMATION: All of the listed concession authorizations will expire by their terms on or before December 31, 2004. The National Park Service has determined that the proposed short-term extensions are necessary in order to avoid interruption of visitor services and has taken all reasonable and appropriate steps to consider alternatives to avoid such interruption. These extensions will allow the National Park Service to complete and issue prospectuses leading to the competitive selection of concessioners for new long-term concession contracts covering these operations.

Conc ID No. | Concessioner name | Park
DENA023-97 | Doug Geeting Aviation | Denali National Park.
DENA024-97 | Hudson Air Service | Denali National Park.
DENA025-97 | K-2-Rustair | Denali National Park.
DENA027-97 | McKinley Air Service | Denali National Park.
DENA028-97 | James Trumbull, Inc. | Denali National Park.
DENA029-97 | Talkeetna Air Taxi | Denali National Park.
WRST001-98 | Daniel Schwarzer | Wrangell-St. Elias National Preserve.
WRST002-98 | Melvin Gillis | Wrangell-St. Elias National Preserve.
WRST003-98 | W. Kirk Ellis | Wrangell-St. Elias National Preserve.
WRST004-98 | W. Cole Ellis | Wrangell-St. Elias National Preserve.
WRST005-98 | Jeffrey Chadd | Wrangell-St. Elias National Preserve.
WRST006-98 | Robert Fithian | Wrangell-St. Elias National Preserve.
WRST007-98 | Mark Collins | Wrangell-St. Elias National Preserve.
WRST009-98 | Lorene Ellis | Wrangell-St. Elias National Preserve.
WRST010-98 | Matt Owen | Wrangell-St. Elias National Preserve.
WRST011-98 | Terry Overly | Wrangell-St. Elias National Preserve.
WRST012-98 | Urban Rahoi | Wrangell-St. Elias National Preserve.
WRST013-98 | Thomas Vaden | Wrangell-St. Elias National Preserve.
WRST014-98 | John Claus | Wrangell-St. Elias National Preserve.
WRST015-98 | Paul Claus | Wrangell-St. Elias National Preserve.
WRST016-98 | Richard G. Peterson | Wrangell-St. Elias National Preserve.
WRST017-98 | Chuck McMahan | Wrangell-St. Elias National Preserve.

DATES: Effective Date: January 2, 2005.

FOR FURTHER INFORMATION CONTACT: Jo A. Pendry, Concession Program Manager, National Park Service, Washington, DC, 20240, Telephone 202/513-7156.

Dated: December 17, 2004.
Alfred J. Poole, III,
Acting Associate Director, Administration, Business Practices and Workforce Development.

[FR Doc. 05-3330 Filed 2-18-05; 8:45 am]

BILLING CODE 4312-53-M